DEPARTMENT OF THE INTERIOR

Bureau of Land Management

[AK-921-1410-BK-P]

Notice for Publication, Filing of Plat of Survey; AK

1. The plats of survey of the following described lands were officially filed in the Alaska State Office, Anchorage, Alaska, on the date indicated.

A plat representing the survey of a portion of the south boundary and a portion of the subdivisional lines of section section 36 of Township 39 South, Range 59 East, Copper River Meridian, Alaska, was accepted May 17, 2005, and was officially filed July 8, 2005.

A plat representing the dependent resurvey of a portion of the line between sections 2 and 3 and a portion of U.S. Survey No. 945 and the survey of a portion of sections 1, 2, 11, and 12, partition lines for accreted lands adjoining section 3 and U.S. Survey Nos. 944 and 945, and a portion of the meanders, and an informational traverse of the present day line of mean high tide of accreted lands adjoining U.S. Survey Nos. 944 and 945, of Township 40 South, Range 59 East, Copper River Meridian, Alaska, was accepted May 17, 2005, and was officially filed July 8, 2005.

These plats were prepared at the request of the National Park Service, Alaska Regional Office.

2. These plats will immediately become the basic record for describing the land for all authorized purposes. This survey has been placed in the open files in the Alaska State Office and is available to the public as a matter of information.

3. All inquires relating to these lands should be sent to the Alaska State Office, Bureau of Land Management, Division of Cadastral Surveys, 222 West Seventh Avenue #13, Anchorage, Alaska 99513-7599; 907-267-1403.

Daniel L. Johnson,
Chief, Branch of Field Surveys.

[FR Doc. 05-15117 Filed 7-29-05; 8:45 am]

BILLING CODE 1410-BK-P